NUCLEAR REGULATORY COMMISSION

[NRC-2015-0163]

Biweekly Notice; Applications and Amendments to Facility Operating Licenses and Combined Licenses Involving No Significant Hazards Considerations

AGENCY: Nuclear Regulatory Commission.

ACTION: Biweekly notice.

SUMMARY: Pursuant to section 189a. (2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from June 11, 2015, to June 24, 2015. The last biweekly notice was published on June 23, 2015.

DATES: Comments must be filed by August 6, 2015. A request for a hearing must be filed by September 8, 2015.

ADDRESSES: You may submit comments by any of the following methods (unless this document describes a different method for submitting comments on a specific subject):

• Federal Rulemaking Web site: Go to http://www.regulations.gov and search for Docket ID NRC-2015-0163. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Paula Blechman, Office of Nuclear Reactor Regulation, U.S. Nuclear Regulatory Commission, Washington, DC 20555-0001; telephone: 301-415-2242, email: Paula.Blechman@nrc.gov.

SUPPLEMENTARY INFORMATION:

I. Obtaining Information and Submitting Comments

A. Obtaining Information

Please refer to Docket ID NRC-2015-0163 when contacting the NRC about the availability of information for this action. You may obtain publicly-available information related to this action by any of the following methods:

• Federal Rulemaking Web site: Go to http://www.regulations.gov and search for Docket ID NRC-2015-0163.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2015-0163, facility name, unit number(s), application date, and subject in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

FirstEnergy Nuclear Operating Company, et al., Docket No. 50-346, Davis-Besse Nuclear Power Station (DBNPS), Unit No. 1, Ottawa County, Ohio

Date of amendment request: December 19, 2014. A publicly-available version is in ADAMS under Accession No. ML14353A349.

Description of amendment request: The proposed amendment would revise the technical specifications (TS) to adopt performance-based Type C testing for the reactor containment, which would allow for extended test intervals for Type C valves, and corrects an editorial issue in the TS.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment adopts the NRC-accepted guidelines of [Nuclear Energy Institute] NEI 94-01, Revision 3-A, “Industry Guideline for Implementing Performance-Based Option of 10 CFR part 50, Appendix J,” for DBNPS performance-based Type C containment isolation valve testing. Revision 3-A of NEI 94-01 allows, based on previous valve leak test performance, an extension of Type C containment isolation valve leak test intervals. Since the change involves only performance-based Type C testing, the proposed amendment does not involve either a physical change to the plant or a change in the manner in which the plant is operated or controlled.

Implementation of these guidelines continues to provide adequate assurance that during design basis accidents, the components of the primary containment system will limit leakage rates to less than the values assumed in the plant safety analyses.

The proposed amendment will not change the leakage rate acceptance requirements. As such, the containment will continue to perform its design function as a barrier to fission product releases.

Therefore, the proposed amendment does not significantly increase the probability or consequences of an accident previously evaluated.

2. Does the proposed amendment create the possibility of a new or different kind of accident from any accident previously evaluated?

Response: No.

The proposed amendment to revise the extended frequency performance-based Type C testing program does not change the design or operation of structures, systems, or components of the plant.

The proposed amendment would continue to ensure containment operability and would ensure operation within the bounds of existing accident analyses. There are no accident initiators created or affected by the proposed amendment.

Therefore, the proposed amendment does not create the possibility of a new or different kind of accident from any previously evaluated.

3. Does the proposed amendment involve a significant reduction in a margin of safety?

Response: No.

The proposed amendment to revise the extended frequency performance-based Type C testing program does not affect plant operations, design functions, or any analysis that verifies the capability of a structure, system, or component of the plant to perform a design function. In addition, this change does not affect safety limits, limiting safety system setpoints, or limiting conditions for operation. The specific requirements and conditions of the Technical Specification Containment Leakage Rate Testing Program exist to ensure that the degree of containment structural integrity and leak-tightness that is considered in the plant safety analysis is maintained.

The overall containment leak rate limit specified by Technical Specifications is maintained, thus ensuring the margin of safety in the plant safety analysis is maintained. The design, operation, testing methods, and acceptance criteria for Type A, Type B, and Type C containment leakage tests specified in applicable codes and standards would continue to be met with the acceptance of this proposed change, since these are not affected by this revision to the performance-based containment testing program.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, OH 44308.

NRC Branch Chief: Travis L. Tate.

FirstEnergy Nuclear Operating Company, et al., Docket No. 50-346, Davis-Besse Nuclear Power Station, Unit No. 1, Ottawa County, Ohio

Date of amendment request: April 1, 2015. A publicly-available version is in ADAMS under Accession No. ML15091A143.

Description of amendment request: The proposed amendment requests changes to certain technical specification minimum voltage and frequency acceptance criteria for emergency diesel generator (EDG) surveillance testing.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment would provide more restrictive acceptance criteria for certain EDG technical specification surveillance tests. The proposed acceptance criteria changes would help to ensure the EDGs are capable of carrying the electrical loading assumed in the safety analyses that take credit for the operation of the EDGs, would not affect the capability of other structures, systems, and components to perform their design function, and would not increase the likelihood of a malfunction.

Therefore, the proposed amendment does not significantly increase the probability or consequences of an accident previously evaluated.

2. Does the proposed amendment create the possibility of a new or different kind of accident from any accident previously evaluated?

Response: No.

The proposed changes would provide more restrictive acceptance criteria to be applied to existing technical specification surveillance tests that demonstrate the capability of the facility EDGs to perform their design function. The proposed acceptance criteria changes would not create any new failure mechanisms, malfunctions, or accident initiators not considered in the design and licensing bases.

Therefore, the proposed amendment does not create the possibility of a new or different kind of accident from any previously evaluated.

3. Does the proposed amendment involve a significant reduction in a margin of safety?

Response: No.

The proposed EDG surveillance requirement changes involve increased minimum voltage and frequency test acceptance criteria. The conduct of surveillance tests on safety related plant equipment is a means of assuring that the equipment is capable of maintaining the margin of safety established in the safety analyses for the facility. The proposed amendment does not affect EDG performance as described in the design basis analyses, including the capability for the EDG to attain and maintain required voltage and frequency for accepting and supporting plant safety loads should an EDG start signal be received. The proposed amendment does not introduce changes to limits established in the accident analysis.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, Attorney, FirstEnergy Corporation, Mail Stop A-GO-15, 76 South Main Street, Akron, OH 44308.

NRC Branch Chief: Travis L. Tate.

National Institute of Standards and Technology (NIST), Docket No. 50-184, Center for Neutron Research (NCNR), Montgomery County, Maryland

Date of amendment request: June 23, 2014, as supplemented by letter dated August 20, 2014. Publicly-available versions are in ADAMS under Accession Nos. ML14196A043 and ML14241A384, respectively.

Description of amendment request: The proposed amendment would revise the NIST NCNR's Technical Specifications, sections 3.6 and 4.6, pertaining to the replacement of NCNR's Uninterruptable Power Supplies (UPS) which supplies emergency alternating current power to reactor critical loads.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment would not increase the probability or consequences of an accident previously evaluated. The proposed amendment modifies maintenance requirements for emergency power systems due to a change in battery technology used in commercially available UPS. The proposed amendment will assure the reliability of the emergency power systems utilizing valve-regulated lead acid (VRLA) batteries by increasing the frequency of performance testing as recommended by the battery manufacturer and the IEEE (Institute of Electrical and Electronics Engineers). The IEEE recommends the performance test Interval for VRLA batteries (IEEE-I 188) should not be greater than 25% of the expected service life or two years, whichever is less. The expected lifespan of a VRLA battery is ten years so a two year testing interval was selected. More frequent performance testing will ensure all the station batteries used for emergency power remain capable of supplying emergency electrical loads for a minimum of four hours as required. The proposed amendment will also correct a typographical error and add the requirement in the Limiting Conditions for Operations (LCO) for at least one of the two replacement UPS system batteries to be available to operate the reactor. Each UPS battery system is capable of independently supplying the designated emergency electrical loads for a minimum of four hours. Power for larger electrical loads such as primary cooling backup pumps (shutdown pumps) and emergency ventilation fans comes from other sources of emergency electrical power (diesel generators, critical power bus, or 125 VDC [volt direct current] station battery).

2. Does the change create the possibility of a new or different kind of accident from any accident previously evaluated?

Response: No.

The proposed amendment would not create the possibility of a new or different kind of accident from any accident previously evaluated. The replacement UPS utilizes a different battery type (VRLA) which has shorter lifespan than traditional Vented Lead Acid (VLA) batteries. Increasing the frequency of performance monitoring as recommended by the IEEE accounts for the shorter lifespan of VRLA batteries and will enable the facility to identify a loss of battery capacity early to permit scheduled replacement of individual system components. Two identical but redundant UPS systems will each provide for a minimum of four hours at fully rated emergency power loading (20 kVA [kilovolt ampere]). The actual emergency electrical loads on the UPS will be significantly less because the larger electrical loads will continue to be powered from the 125 VDC station battery directly or from one of two emergency diesel generators. The new system will have higher reliability and capacity than the existing emergency power system.

3. Does the proposed change involve a significant reduction in a margin of safety?

Response: No.

The proposed amendment would not involve a significant reduction in a margin of safety. More frequent monitoring of the capacity or performance of the VRLA batteries utilized in the replacement UPS supplying power to critical reactor loads will ensure the UPS performs its design function and loss of battery capacity is detected early before safety margins are reduced.

The NRC staff has reviewed the licensee's analysis and, based on this review, it appears that the three standards of 10 CFR 50.92(c) are satisfied. Therefore, the NRC staff proposes to determine that the amendment request involves no significant hazards consideration.

Attorney for licensee: Melissa J. Lieberman, Deputy Chief Counsel, National Institute of Standards and Technology, 100 Bureau Drive, Gaithersburg, MD 20899.

NRC Branch Chief: Alexander Adams, Jr.

Southern Nuclear Operating Company, Inc. (SNC), Docket Nos. 50-321 and 50-366, Edwin I. Hatch Nuclear Plant (HNP), Units 1 and 2, Appling County, Georgia

Date of amendment request: April 2, 2015. A publicly-available version is in ADAMS under Accession No. ML15092A856.

Description of amendment request: The proposed amendment modifies Technical Specifications (TS) section 1.0 (“Definitions”), Limiting Conditions for Operation and Surveillance Requirement Applicability, section 3.4.9 (“RCS [Reactor Coolant System] Pressure and Temperature (P/T) Limits”), and section 5.0 (“Administrative Controls”) to delete reference to the pressure and temperature curves, and to include reference to the Pressure and Temperature Limits Report (PTLR). This change adopts the methodology of Boiling Water Reactor Owners Group (BWROG)-TP-11-022-A Revision 1 (SIR-05-044, Revision 1-A), “Pressure-Temperature Limits Report Methodology for Boiling Water Reactors,” dated June 2013, and of BWROG-TP-11-023-A, Revision 0 (0900876.401, Revision 0-A), “Linear Elastic Fracture Mechanics Evaluation of General Electric Boiling Water Reactor Water Level Instrument Nozzles for Pressure-Temperature Curve Evaluations,” dated May 2013, for preparation of the pressure and temperature (P-T) curves, and incorporates the guidance of Technical Specification Task Force (TSTF) TSTF-419-A, “Revise PTLR Definition and References in Improved Standard Technical Specification (ISTS) 5.6.6, RCS PTLR.” The HNP PTLRs have been developed based on the methodologies provided in BWROG-TP-11-022-A, Revision 1, and BWROG-TP-11-023-A, Revision 0, and based on the template provided in BWROG-TP-11-022-A, Revision 1.

Basis for proposed no significant hazards consideration determination: As required by 10 CFR 50.91(a), the licensee has provided its analysis of the issue of no significant hazards consideration which is presented below:

1. Does the proposed change involve a significant increase in the probability or consequences of an accident previously evaluated?

Response: No.

The proposed change modifies Edwin I. Hatch Nuclear Plant (HNP) Unit 1 and Unit 2 Technical Specifications (TS) Section 1.0 (“Definitions”), Limiting Conditions for Operation and Surveillance Requirement Applicability Section 3.4.9 (“RCS Pressure and Temperature (P/T) Limits”), and Section 5.0 (“Administrative Controls”), to delete reference to the pressure and temperature curves, and to include reference to the Pressure and Temperature Limits Report (PTLR). This change adopts the methodology of BWROG-TP-11-022-A, Revision 1 (SIR-05-044, Revision 1-A), “Pressure-Temperature Limits Report Methodology for Boiling Water Reactors,” dated June 2013, and of BWROG-TP-11-023-A, Revision 0 (0900876.401, Revision 0-A), “Linear Elastic Fracture Mechanics Evaluation of General Electric Boiling Water Reactor Water Level Instrument Nozzles for Pressure-Temperature Curve Evaluations,” dated May 2013, for preparation of the pressure and temperature curves, and incorporates the guidance of TSTF-419-A, “Revise PTLR Definition and References in ISTS 5.6.6, RCS PTLR.” The HNP PTLRs have been developed based on the methodologies provided in BWROG-TP-11-022-A, Revision 1 and BWROG-TP-11-023-A, Revision 0, and based on the template provided in BWROG-TP-11-022-A, Revision 1. The HNP PTLRs meet all Conditions specified in the Safety Evaluation Reports (SERs) for BWROG-TP-11-022-A, Revision 1 and for BWROG-TP-11-023-A, Revision 0.

The NRC has established requirements in Appendix G to 10 CFR 50 in order to protect the integrity of the reactor coolant pressure boundary (RCPB) in nuclear power plants. Additionally, the regulation in 10 CFR part 50, Appendix H, provides the NRC staff's criteria for the design and implementation of reactor pressure vessel (RPV) material surveillance programs for operating lightwater reactors. Implementing these NRC approved methodologies does not reduce the ability to protect the reactor coolant pressure boundary as specified in Appendix G, nor will this change increase the probability of malfunction of plant equipment, or the failure of plant structures, systems, or components. Incorporation of the new methodologies for calculating P-T curves, and the relocation of the P-T curves from the TS to the PTLR, provides an equivalent level of assurance that the RCPB is capable of performing its intended safety functions.

Therefore, the proposed change does not involve a significant increase in the probability or consequences of an accident previously evaluated.

2. Does the proposed change create the possibility of a new or different kind of accident from any accident previously evaluated?

Response: No.

The proposed change does not affect the assumed accident performance of the RCPB, nor any plant structure, system, or component previously evaluated. The proposed change does not involve the installation of new equipment, and installed equipment is not being operated in a new or different manner. The change in methodology ensures that the RCPB remains capable of performing its safety functions. No set points are being changed which would alter the dynamic response of plant equipment. Accordingly, no new failure modes are introduced which could introduce the possibility of a new or different kind of accident from any previously evaluated.

3. Does the proposed change involve a significant reduction in a margin of safety?

Response: No.

The proposed change does not affect the function of the RCPB or its response during plant transients. There are no changes proposed which alter the setpoints at which protective actions are initiated, and there is no change to the operability requirements for equipment assumed to operate for accident mitigation.

Therefore, the proposed change does not involve a significant reduction in a margin of safety.

Based upon the above, SNC concludes that the proposed amendment presents no significant hazards consideration under the standards set forth in 10 CFR 50.92(c), and, accordingly, a finding of no significant hazards is justified.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, 40 Inverness Center Parkway, Birmingham, AL 35201.

NRC Branch Chief: Robert J. Pascarelli.

Southern Nuclear Operating Company, Inc., Docket Nos. 52-025 and 52-026, Vogtle Electric

Generating Plant (VEGP), Units 3 and 4, Burke County, Georgia

Date of amendment request: October 7, 2014. A publicly-available version is in ADAMS under Accession No. ML14280A391.

Description of amendment request: The proposed change would amend Combined License Nos. NPF-91 and NPF-92 for the VEGP, Units 3 and 4. The requested amendment proposes to modify the existing feedwater controller logic to allow the controller program to respond as required to various plant transients while minimizing the potential for false actuation. Because, this proposed change requires a departure from Tier 1 information in the Westinghouse Advanced Passive 1000 Design Control Document (DCD), the licensee also requested an exemption from the requirements of the Generic DCD Tier 1 in accordance with 10 CFR 52.63(b)(1).

Basis for proposed no significant hazards consideration determination: As required by 10 CFR 50.91(a), the licensee has provided its analysis of the issue of no significant hazards consideration, which is presented below:

1. Does the proposed amendment involve a significant increase in the probability or consequences of an accident previously evaluated?

Response: No.

The proposed changes will modify the control logic for actuation of the startup feedwater (SFW) pumps to support their defense-in-depth function of core decay heat removal. The instrumentation used for actuation of the SFW pumps in their defense-in-depth function are not initiators of any accident. The proposed control logic uses different instrument tag numbers than the current design. The instruments used for the actuation of this function exist as a part of the current design; therefore this proposed change does not require any additional instrumentation. These instruments, to be included as part of the Design Reliability Assurance Program (D-RAP), will be held to the same enhanced quality assurance (QA) requirements as the current instruments and therefore neither safety, performance, nor reliance will be reduced as a part of this change.

Additionally, the proposed changes do not adversely affect any accident initiating event or component failure, thus accidents previously evaluated are not adversely affected. In the event of loss of offsite power that results in a loss of main feedwater (MFW) supply, the SFW pumps automatically supply feedwater to the steam generators to cool down the reactor under emergency shutdown conditions. The standby source motor control center circuit powers each of the two SFW pumps and their associated instruments and valves. The pump discharge isolation valves are motor-operated and are normally closed and interlocked with the SFW pumps. In the event of loss of offsite power, the onsite standby power supply diesel generators will power the SFW pumps. If both the normal ac power and the onsite standby ac power are unavailable, these valves will fail “as-is.” The pump suction header isolation valves are pneumatically actuated. The main and startup feedwater system (FWS) also has temperature instrumentation in the pump discharge that would permit monitoring of the SFW temperature. This proposed change therefore has no impact on the ability of the AP1000 plant to cool down under emergency shutdown conditions or during a loss of offsite power event.

No function used to mitigate a radioactive material release and no radioactive material release source term is involved, thus the radiological releases in the accident analyses are not adversely affected.

Therefore, the proposed amendment does not involve a significant increase in the probability or consequences of an accident previously evaluated.

2. Does the proposed amendment create the possibility of a new or different kind of accident from any accident previously evaluated?

Response: No.

The proposed changes will modify the control logic for actuation of the startup feedwater (SFW) pumps to support their defense-in-depth function of core decay heat removal. The instrumentation used for actuation of the SFW pumps in their defense-in-depth function are not initiators of any accident. The proposed control logic uses different instrument tag numbers than the current design. However, the instruments used for the actuation of this function already exist as a part of the current design and so this change does not require any additional instrumentation. These instruments, to be included as part of the D-RAP, will be held to the same enhanced QA requirements as the current instruments and so neither safety, performance, nor reliance will be reduced as a part of this change. Furthermore, since the D-RAP ensures consistency with the Probabilistic Risk Assessment (PRA), the changes do not impact the PRA. The proposed changes would not introduce a new failure mode, fault, or sequence of events that could result in a radioactive material release. The proposed change does not alter the design, configuration, or method of operation of the plant beyond standard functional capabilities of the equipment.

Therefore, the proposed amendment does not create the possibility of a new or different kind of accident from any accident previously evaluated.

3. Does the proposed amendment involve a significant reduction in a margin of safety?

Response: No.

The proposed changes will modify the control logic for actuation of the startup feedwater (SFW) pumps to support their defense-in-depth function of core decay heat removal. These changes will have no negative impacts on the safety margin associated with the design functions of the SFW pumps. The proposed logic changes will only resolve the current conditions associated with undesired start up signals for the SFW pumps. The changes set forth in this amendment correct the actuation logic of the SFW pumps, so that the feedwater controller logic is now aligned with the guidance provided in the Advanced Light Water Reactor Utility Requirements Document (ALWR URD). In addition, the operation of the startup feedwater system function is not credited to mitigate a design-basis accident. Since there is no change to an existing design basis limit/criterion, design function, or regulatory criterion no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

Acting NRC Branch Chief: Paul Kallan.

Susquehanna Nuclear, LLC, Docket Nos. 50-387 and 50-388, Susquehanna Steam Electric Station (SSES), Units 1 and 2, Luzerne County, Pennsylvania

Date of amendment request: March 19, 2015. A publicly-available version is available in ADAMS under Package Accession No. ML15091A657.

Description of amendment request: The amendment would revise the Emergency Plan for SSES to adopt the Nuclear Energy Institute's (NEI's) revised Emergency Action Level (EAL) scheme described in NEI 99-01, Revision 6, “Development of Emergency Action Levels for Non-Passive Reactors” (ADAMS Accession No. ML12326A805), which was endorsed by the NRC, as documented in NRC letter dated March 28, 2013 (ADAMS Accession No. ML12346A463).

On June 1, 2015, the NRC staff issued an amendment changing the name on the SSES license from PPL Susquehanna, LLC, to Susquehanna Nuclear, LLC. This amendment was issued subsequent to an order issued on April 10, 2015, to SSES, approving an indirect license transfer.

Basis for proposed no significant hazards consideration determination: As required by 10 CFR 50.91(a), the licensee has provided its analysis of the issue of no significant hazards consideration, which is presented below:

1. Does the proposed change involve a significant increase in the probability or consequences of any accident previously evaluated?

Response: No.

The proposed changes to the EAL scheme to adopt the NRC-endorsed guidance in NEI 99-01, Revision 6, “Development of Emergency Action Levels for Non-Passive Reactors,” do not reduce the capability to meet the emergency planning requirements established in 10 CFR 50.47 and 10 CFR 50, Appendix E. The proposed changes do not reduce the functionality, performance, or capability of the ERO [Emergency Response Organization] to respond in mitigating the consequences of any design basis accident.

The probability of a reactor accident requiring implementation of Emergency Plan EALs has no relevance in determining whether the proposed changes to the EALs reduce the effectiveness of the Emergency Plan. As discussed in Section I.D, “Planning Basis,” of NUREG-0654, Revision 1, “Criteria for Preparation and Evaluation of Radiological Emergency Response Plans and Preparedness in Support of Nuclear Power Plants”;

. . . The overall objective of emergency response plans is to provide dose savings (and in some cases immediate life saving) for a spectrum of accidents that could produce offsite doses in excess of Protective Action Guides (PAGs). No single specific accident sequence should be isolated as the one for which to plan because each accident could have different consequences, both in nature and degree. Further, the range of possible selection for a planning basis is very large, starting with a zero point of requiring no planning at all because significant offsite radiological accident consequences are unlikely to occur, to planning for the worst possible accident, regardless of its extremely low likelihood . . .

Therefore, risk insights are not considered for any specific accident initiation or progression in evaluating the proposed changes.

The proposed changes do not involve any physical changes to plant equipment or systems, nor do they alter the assumptions of any accident analyses. The proposed changes do not adversely affect accident initiators or precursors nor do they alter the design assumptions, conditions, and configuration or the manner in which the plants are operated and maintained. The proposed changes do not adversely affect the ability of Structures, Systems, or Components (SSCs) to perform their intended safety functions in mitigating the consequences of an initiating event within the assumed acceptance limits.

Therefore, the proposed changes do not involve a significant increase in the probability or consequences of an accident previously evaluated.

2. Does the proposed change create the possibility of a new or different kind of accident from any accident previously evaluated?

Response: No.

The proposed changes to the EAL scheme to adopt the NRC-endorsed guidance in NEI 99-01, Revision 6 do not involve any physical changes to plant systems or equipment. The proposed changes do not involve the addition of any new plant equipment. The proposed changes will not alter the design configuration, or method of operation of plant equipment beyond its normal functional capabilities. All ERO functions will continue to be performed as required. The proposed changes do not create any new credible failure mechanisms, malfunctions, or accident initiators.

Therefore, the proposed changes do not create the possibility of a new or different kind of accident from those that have been previously evaluated.

3. Does the proposed change involve a significant reduction in a margin of safety?

Response: No.

The proposed changes to the EAL scheme to adopt the NRC-endorsed guidance in NEI 99-01, Revision 6 do not alter or exceed a design basis or safety limit. There is no change being made to safety analysis assumptions, safety limit, or limiting safety system settings that would adversely affect plant safety as a result of the proposed changes. There are no changes to setpoints or environmental conditions of any SSC or the manner in which any SSC is operated. Margins of safety are unaffected by the proposed changes to adopt the NEI 99-01, Revision 6 EAL scheme guidance. The applicable requirements of 10 CFR 50.47 and 10 CFR 50, Appendix E will continue to be met.

Therefore, the proposed changes do not involve any reduction in a margin of safety.

The NRC staff has reviewed the licensee's analysis and, based on this review, it appears that the three standards of 10 CFR 50.92(c) are satisfied. Therefore, the NRC staff proposes to determine that the amendment request involves no significant hazards consideration.

Attorney for licensee: Damon D. Obie, Associate General Counsel, Talen Energy Supply, LLC, 835 Hamilton St., Suite 150, Allentown, PA 18101.

NRC Branch Chief: Douglas A. Broaddus.

Union Electric Company, Docket No. 50-483, Callaway Plant, Unit 1 (Callaway), Callaway County, Missouri

Date of amendment request: May 8, 2015. A publicly-available version is in ADAMS under Accession No. ML15132A137.

Description of amendment request: The amendment would change Technical Specification (TS) 2.1.1.1 and 5.6.5 to adopt NRC-approved Westinghouse Electric Company LLC topical report WCAP-14565-P-A, Addendum 2-P-A, “Extended Application of ABB-NV [Asea Brown Boveri N.V.] Correlation and Modified ABB-NV Correlation WLOP [Westinghouse Low Pressure] for PWR [Pressurized-Water Reactor] Low Pressure Applications,” April 2008 (proprietary).

Basis for proposed no significant hazards consideration determination: As required by 10 CFR 50.91(a), the licensee has provided its analysis of the issue of no significant hazards consideration, which is presented below:

1. Does the proposed change involve a significant increase in the probability or consequences of an accident previously evaluated?

Response: No.

Overall protection system performance will remain within the bounds of the accident analyses since there are no design changes. The design of the reactor trip system (RTS) instrumentation will be unaffected, and thus, the protection system will continue to function in a manner consistent with the plant design basis. All applicable design, material, and construction standards will continue to be maintained.

The proposed changes will not affect any assumptions regarding accident initiators or precursors nor adversely alter the design assumptions, conditions, and configuration of the facility or the intended manner in which the plant is operated and maintained. The proposed changes will not alter or prevent the ability of structures, systems, and components (SSCs) from performing their intended functions to mitigate the consequences of an initiating event within the assumed acceptance limits.

The proposed changes do not physically alter safety-related systems nor affect the way in which safety-related systems perform their functions. TS 5.6.5.b continues to ensure that the analytical methods used to determine the core operating limits meet NRC reviewed and approved methodologies. TS 5.6.5.c, unchanged by this amendment application, will continue to ensure that applicable limits of the safety analyses are met.

The proposed change to TS 2.1.1.1 to specify only the true DNBR [departure from nucleate boiling ratio] safety limit without the addition of analytical uncertainties does not alter the use of the analytical methods used to determine core operating limits that have been reviewed and approved by the NRC. Removing analytical uncertainties from the TS would allow the use of current topical reports to refine those uncertainties without having to submit an amendment to the operating license, consistent with the intent of WCAP-14483-A [“Generic Methodology for Expanded Core Operating Limits Report,” dated January 19, 1999; ADAMS Accession No. ML020430092]. Implementation of revisions to topical reports for Callaway Plant applications would still be reviewed in accordance with 10 CFR 50.59(c)(2)(viii) and, where required, receive prior NRC review and approval.

All accident analysis acceptance criteria will continue to be met with the proposed changes. The proposed changes will not affect the source term, containment isolation, or radiological release assumptions used in evaluating the radiological consequences of an accident previously evaluated. The proposed changes will not alter any assumptions or change any mitigation actions in the radiological consequence evaluations in the FSAR [Final Safety Analysis Report]. The applicable radiological dose acceptance criteria will continue to be met.

Therefore, the proposed changes do not involve a significant increase in the probability or consequences of an accident previously evaluated.

2. Does the proposed change create the possibility of a new or different kind of accident from any accident previously evaluated?

Response: No.

The ABB-NV correlation was originally developed for Combustion Engineering fuel designs, and has also been qualified and licensed for Westinghouse fuel applications for the fuel region below the first mixing vane grid where the W-3 correlation is currently applied. The WLOP correlation is developed for DNBR calculations at low pressure conditions. The W-3A correlations, which are based exclusively on DNB [departure from nucleate boiling] data from rod bundle tests, have a wider applicable range and are more accurate than the W-3 correlation, leading to increased DNB margin in the plant safety analyses. The NRC-approved ABB-NV and WLOP correlation 95/95 DNBR limits with the VIPRE-W code are 1.13 and 1.18, respectively.

The proposed change does not create the possibility of a new or different kind of accident from any accident previously evaluated, as the change is simply allowing the use of more accurate correlations when evaluating DNBR. The change does not involve any physical changes to the facility.

Likewise, revising TS 2.1.1.1 to present the DNBR safety limit calculated using the WRB-2 methodology, without uncertainties being applied, does [sic] not introduce any new or different failure mode from what has been previously been evaluated. The change does not involve any change to a methodology, including how uncertainties are calculated and accounted for, nor does it involve any physical change to the facility.

Collectively, and based on the above, the proposed changes do not create the possibility of a new or different kind of accident from any accident previously evaluated.

3. Does the proposed change involve a significant reduction in a margin of safety?

Response: No.

The ABB-NV correlation was originally developed for Combustion Engineering fuel designs, and has also been qualified and licensed for Westinghouse fuel applications for the fuel region below the first mixing vane grid where the W-3 correlation is currently applied. The WLOP correlation is developed for DNBR calculations at low pressure conditions. The W-3A correlations, which are based exclusively on DNB data from rod bundle tests, have a wider applicable range and are more accurate than the W-3 correlation, leading to increased DNB margin in the plant safety analyses. Therefore, the proposed change does not involve a significant reduction in a margin of safety.

The currently listed Safety Limit in TS 2.1.1.1 for DNBR of 1.22 is calculated with some uncertainties statistically combined into the 1.17 value calculated using the WRB-2 methodology. These uncertainties are combined using the RTDP [Revised Thermal Design Procedure] methodology described in WCAP-11397-P-A [“Revised Thermal Design Procedure,” April 1989 (proprietary)]. Callaway FSAR Section 4.4.1.1 discusses which uncertainties are statistically combined into the correlation limit.

Revising TS 2.1.1.1 to present the DNBR safety limit calculated using the WRB-2 methodology, without uncertainties being applied, does not represent a change in methodology, but rather allows for changes in calculated uncertainties using methodologies previously approved for Callaway without requiring a license amendment. The proposed TS 2.1.1.1 revision does not represent a change in methodology for performing analyses.

The proposed changes do not eliminate any surveillances or alter the frequency of surveillances required by the Technical Specifications. The nominal RTS and ESFAS [engineered safety features actuation system] trip setpoints (as well as the associated allowable values) will remain unchanged. None of the acceptance criteria for any accident analysis will be changed.

As there is no change to the source term, radiological release, or [dose] mitigation functions assumed in the accident analysis, the proposed changes have no impact on the radiological consequences of a design basis accident.

Based on the above, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: John O'Neill, Esq., Pillsbury Winthrop Shaw Pittman LLP, 2300 N Street NW., Washington, DC 20037.

NRC Branch Chief: Michael T. Markley.

Virginia Electric and Power Company, Docket Nos. 50-338 and 50-339, North Anna Power Station, Unit Nos. 1 and 2 (NAPS), Louisa County, Virginia

Date of amendment request: May 4, 2015. A publicly-available version is in ADAMS under Accession No. ML15131A026.

Description of amendment request: The proposed license amendment would revise an incorrect equipment mark number, due to an administrative error in the current Emergency Action Levels (EAL). The amendment would correct the equipment mark number from the “GW-RI-178-1 Process Vent Normal Range” monitor to the “VG-RI-180-1 Vent Stack B Normal Range” monitor for Initiating Condition (IC) RA2, EAL RA2.1.

Basis for proposed no significant hazards consideration determination: As required by 10 CFR 50.91(a), the licensee has provided its analysis of the issue of no significant hazards consideration, which is presented below:

1. Does the proposed change involve a significant increase in the probability or consequences of an accident previously evaluated?

Response: No.

This administrative change affects the NAPS EALs, but does not alter any of the requirements of the Operating License or the Technical Specifications. The proposed change does not modify any plant equipment and does not impact any failure modes that could lead to an accident. Additionally, the proposed change has no effect on the consequences of any analyzed accident since the change does not affect any equipment related to accident mitigation.

Based on this discussion, the proposed amendment does not increase the probability or consequences of an accident previously evaluated.

2. Does the proposed change create the possibility of a new or different kind of accident from any accident previously evaluated?

Response: No.

The change affects the NAPS EALs by correcting an incorrect radiation monitor reference, but does not alter any of the requirements of the Operating License or the Technical Specifications. It does not modify any plant equipment and there is no impact on the capability of the existing equipment to perform its intended functions. No system setpoints are being modified. No new failure modes are introduced by the proposed change. The proposed amendment does not introduce an accident initiator or any malfunctions that would cause a new or different kind of accident.

Therefore, the proposed amendment does not create the possibility of a new or different kind of accident from any accident previously evaluated.

3. Does the proposed change involve a significant reduction in a margin of safety?

Response: No.

The change affects the NAPS EALs, but does not alter any of the requirements of the Operating License or the Technical Specifications. The proposed change does not affect any of the assumptions used in the accident analysis, nor does it affect any operability requirements for equipment important to plant safety.

Therefore, the proposed change will not result in a significant reduction in the margin of safety.

The NRC staff has reviewed the licensee's analysis and, based on this review, it appears that the three standards of 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Robert J. Pascarelli.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-413 and 50-414, Catawba Nuclear Station (Catawba), Units 1 and 2, York County, South Carolina

Duke Energy Carolinas, LLC, Docket Nos. 50-369 and 50-370 McGuire Nuclear Station (McGuire), Units 1 and 2, Mecklenburg County, North Carolina

Duke Energy Carolinas, LLC, Docket Nos. 50-269, 50-270, and 50-287, Oconee Nuclear Station (Oconee), Units 1, 2, and 3, Oconee County, South Carolina

Date of application for amendments: November 6, 2014.

Brief description of amendments: The amendments changed the completion date for implementing Milestone 8 of the Duke Cyber Security Plan. Specifically, the amendments revised the date from June 30, 2015, to December 31, 2017.

Date of issuance: June 11, 2015.

Effective date: The license amendments are effective as of their dates of issuance and shall be implemented within 30 days of issuance.

Amendment Nos.: Catawba Unit 1—276; Catawba Unit 2—272; McGuire Unit 1—279; McGuire Unit 2—259; Oconee Unit 1—391; Oconee Unit 2—393; and Oconee Unit 3—392. A publicly-available version is in ADAMS under Accession No. ML15133A453; documents related to these amendments are listed in the Safety Evaluation enclosed with the amendments.

Renewed Facility Operating License Nos. NPF-35, NPF-52, NPF-9, NPF-17, DPR-38, DPR-47, and DPR-55: Amendments revised the licenses.

Date of initial notice in Federal Register: February 3, 2015 (80 FR 5818).

The Commission's related evaluation of the amendments is contained in a Safety Evaluation dated June 11, 2015.

No significant hazards consideration comments received: No.

Duke Energy Carolinas, LLC, Docket Nos. 50-269, 50-270, and 50-287, Oconee Nuclear Station, Units 1, 2, and 3, Oconee County, South Carolina

Date of amendment request: November 8, 2010, as supplemented by letters dated September 1, 2011; June 28, 2012; March 28, April 18, September 27, and November 29, 2013; March 20 (two letters), and April 23, 2014; and May 28, 2015.

Brief description of amendments: The amendments approved revisions to the updated final safety analysis report to incorporate the licensee's reactor vessel internals inspection plan based on the Materials Reliability Program: “Pressurized Water Reactor Internals Inspection and Evaluation Guidelines (MRP-227-A),” published by the Electric Power Research Institute.

Date of issuance: June 19, 2015.

Effective date: As of the date of issuance and shall be implemented within 90 days.

Amendment Nos.: 392 for Unit 1, 394 for Unit 2, and 393 for Unit 3. A publicly-available version is in ADAMS under Accession No. ML15050A671; documents related to these amendments are listed in the Safety Evaluation enclosed with the amendments.

Facility Operating License Nos. DPR-38, DPR-47, and DPR-55: The amendments revised the Facility Operating Licenses.

Date of initial notice in Federal Register: October 2, 2012 (77 FR 60149). The supplemental letters dated September 1, 2011; March 28, April 18, September 27, and November 29, 2013; March 20 (two letters), and April 23, 2014; and May 28, 2015, provided additional information that clarified the application, did not expand the scope of the application as originally noticed, and did not change the staff's original proposed no significant hazards consideration determination as published in the Federal Register.

The Commission's related evaluation of the amendments is contained in a Safety Evaluation dated June 19, 2015.

No significant hazards consideration comments received: No.

Exelon Generation Company, LLC, Docket Nos. STN 50-456 and STN 50-457, Braidwood Station, Units 1 and 2, Will County, Illinois

Exelon Generation Company, LLC, Docket Nos. STN 50-454 and STN 50-455, Byron Station, Unit Nos. 1 and 2, Ogle County, Illinois

Exelon Generation Company, LLC, Docket No. 50-461, Clinton Power Station, Unit No. 1, DeWitt County, Illinois

Exelon Generation Company, LLC, Docket Nos. 50-237 and 50-249, Dresden Nuclear Power Station, Units 2 and 3, Grundy County, Illinois

Exelon Generation Company, LLC, Docket Nos. 50-373 and 50-374, LaSalle County Station, Units 1 and 2, LaSalle County, Illinois

Exelon Generation Company, LLC, Docket Nos. 50-254 and 50-265, Quad Cities Nuclear Power Station, Units 1 and 2, Rock Island County, Illinois

Date of application for amendments: July 14, 2014.

Brief description of amendments: The amendments revised and added Technical Specification (TS) surveillance requirements to address the concerns discussed in Generic Letter 2008-01, “Managing Gas Accumulation in Emergency Core Cooling, Decay Heat Removal, and Containment Spray Systems,” dated January 11, 2008. The TS changes are based on TS Task Force (TSTF) Traveler TSTF-523, Revision 2, “Generic Letter 2008-01, Managing Gas Accumulation,” dated February 21, 2013.

Date of issuance: June 19, 2015.

Effective date: As of the date of issuance and shall be implemented within 120 days from the date of issuance.

Amendment Nos.: 183, 183, 189, 189, 204, 244, 237, 214, 200, 257, and 252. A publicly-available version is in ADAMS under Accession No. ML15114A188; documents related to these amendments are listed in the Safety Evaluation enclosed with the amendments.

Facility Operating License Nos. NPF-72, NPF-77, NPF-37, NPF-66, NPF-62, DPR-19, DPR-25, NPF-11, NPF-18, DPR-29, and DPR-30: The amendments revised the TSs and Licenses.

Date of initial notice in Federal Register: October 28, 2014 (79 FR 64224).

The Commission's related evaluation of the amendments is contained in a Safety Evaluation dated June 19, 2015.

No significant hazards consideration comments received: No.

Exelon Generation Company, LLC, Docket Nos. 50-317 and 50-318, Calvert Cliffs Nuclear Power Plant, Unit Nos. 1 and 2, Calvert County, Maryland

Date of amendment request: November 13, 2013, as supplemented by letter dated June 13, 2014.

Brief description of amendments: The amendments revised Technical Specification (TS) 3.4.9, “Pressurizer,” TS 3.6.6, “Containment Spray and Cooling Systems,” TS 3.6.8, “Iodine Removal System,” TS 3.7.8, “Control Room Emergency Ventilation System,” and TS 3.7.12, “Penetration Room Exhaust Ventilation System” to provide a short completion time to restore an inoperable system for conditions under which existing TSs require a plant shutdown.

Date of issuance: January 14, 2015.

Effective date: As of the date of issuance and shall be implemented within 60 days of issuance.

Amendment Nos.: 309 and 287. A publicly-available version is in ADAMS under Accession No. ML14307A842; documents related to these amendments are listed in the Safety Evaluation enclosed with the amendments.

Renewed Facility Operating License Nos. DPR-53 and DPR-69: The amendments revised the Licenses and TSs.

Date of initial notice in Federal Register: July 22, 2014 (79 FR 42548). The supplement dated June 13, 2014, provided additional information that clarified the application, did not expand the scope of the application as originally noticed, and did not change the NRC staff's original proposed no significant hazards consideration determination.

The Commission's related evaluation of the amendments is contained in a Safety Evaluation dated January 14, 2015.

No significant hazards consideration comments received: No.

FirstEnergy Nuclear Operating Company, et al., Docket No. 50-440, Perry Nuclear Power Plant, Unit No. 1, Lake County, Ohio

Date of application for amendment: June 23, 2014, as supplemented by a letter dated February 27, 2015.

Brief description of amendment: The amendment updated the technical specification (TS) pressure and temperature (P/T) figures using an NRC approved methodology to adjust the P/T limit curves for the previously missing data, addresses the reactor coolant system (RCS) vacuum condition that can occur under certain conditions, and aligns the heatup/cooldown requirements of the TS with the limits in the associated P/T figures. Additionally editorial changes are proposed related to the P/T figures including clarifications and updates to the associated titles, labeling, and notes.

Date of issuance: June 12, 2015.

Effective date: As of the date of issuance and shall be implemented within 90 days.

Amendment No.: 168. A publicly-available version is in ADAMS under Accession No. ML15141A482; documents related to this amendment are listed in the Safety Evaluation enclosed with the amendment.

Facility Operating License No. NPF-58: This amendment revised the TSs and License.

Date of initial notice in Federal Register: September 30, 2014 (79 FR 58817).

The February 27, 2015, supplement contained clarifying information and did not change the NRC staff's initial proposed finding of no significant hazards consideration.

The Commission's related evaluation of the amendment is contained in a Safety Evaluation dated June 12, 2015.

No significant hazards consideration comments received: No.

FirstEnergy Nuclear Operating Company, Docket No. 50-440, Perry Nuclear Power Plant, Unit No. 1, Lake County, Ohio

Date of amendment request: September 12, 2014.

Brief description of amendment: The amendment modified the Technical Specification (TS) definition of SHUTDOWN MARGIN (SDM) to require calculation of SDM at the reactor moderator temperature corresponding to the most reactive state throughout the operating cycle. The changes are consistent with the approved Technical Specification Task Force (TSTF) Traveler, TSTF-535, Revision 0.

Date of issuance: June 23, 2015.

Effective date: As of the date of issuance and shall be implemented within 90 days of issuance.

Amendment No.: 169. A publicly-available version is in ADAMS under Accession No. ML15160A028; documents related to this amendment are listed in the Safety Evaluation enclosed with the amendment.

Facility Operating License No. NPF-58: The amendment revised the Facility Operating License and Technical Specifications.

Date of initial notice in Federal Register: November 25, 2014 (79 FR 70216).

The Commission's related evaluation of the amendment is contained in a Safety Evaluation dated June 23, 2015.

No significant hazards consideration comments received: No.

Florida Power and Light Company, et al., Docket Nos. 50-335 and 50-389, St. Lucie Plant, Unit Nos. 1 and 2, St. Lucie County, Florida

Date of amendment request: February 20, 2014, as supplemented by letters dated December 11, 2014, and January 13, January 28, April 18, and May 19, 2015.

Brief description of amendments: The amendments revised the Technical Specifications (TSs) by relocating specific surveillance frequency requirements to a licensee-controlled program with implementation of Nuclear Energy Institute (NEI) 04-10, “Risk-Informed Technical Specification Initiative 5b, Risk-Informed Method for Control of Surveillance Frequencies” (ADAMS Accession No. ML071360456). The NEI 04-10 methodology provides reasonable acceptance guidelines and methods for evaluating the risk increase of proposed changes to surveillance frequencies, consistent with Regulatory Guide 1.177, “An Approach for Plant-Specific, Risk-Informed Decisionmaking: Technical Specifications” (ADAMS Accession No. ML003740176). The changes are consistent with NRC-approved Technical Specification Task Force (TSTF) Standard Technical Specifications Change TSTF-425, Revision 3, “Relocate Surveillance Frequencies to Licensee Control—RITSTF [Risk Informed Technical Specifications Task Force] Initiative 5b” (ADAMS Accession No. ML090850642). The Federal Register notice published on July 6, 2009 (74 FR 31996), announced the availability of TSTF-425, Revision 3. The amendments also include editorial changes to the TSs, administrative deviations from TSTF-425, and other changes resulting from differences between the St. Lucie Plant TSs and the TSs on which TSTF-425 was based.

Date of issuance: June 22, 2015.

Effective date: As of the date of issuance and shall be implemented within 90 days of issuance.

Amendment Nos.: 223 and 173. A publicly-available version is in ADAMS under Accession No. ML15127A066; documents related to these amendments are listed in the Safety Evaluation (SE) enclosed with the amendments.

Renewed Facility Operating License Nos. DPR-67 and NPF-16: Amendments revised the TSs.

Date of initial notice in Federal Register: The NRC staff initially made a proposed determination that the amendment request dated February 20, 2014, involved no significant hazards consideration (July 22, 2014, 79 FR 42550). By letters dated December 11, 2014, and January 13, 2015, the licensee provided clarifying information that did not expand the scope of the application and did not change the NRC staff's original proposed no significant hazards consideration (NSHC) determination, as published in the Federal Register on July 22, 2014 (79 FR 44550). Subsequently, by letter dated January 28, 2015, the licensee supplemented its amendment request with a proposed change that expanded the scope of the request. Therefore, the NRC published a second proposed NSHC determination in the Federal Register on March 3, 2015 (80 FR 11477), which superseded the notice dated July 22, 2014 (79 FR 44550). The licensee's supplements dated April 18, 2015, and May 19, 2015, provided clarifying information that did not expand the scope of the submittal and did not change the NRC staff's proposed NSHC determination, as published in the notice dated March 3, 2015 (80 FR 11477).

The Commission's related evaluation of the amendments is contained in an SE dated June 22, 2015.

No significant hazards consideration comments received: No.

PSEG Nuclear LLC, Docket Nos. 50-354, 50-272 and 50-311, Hope Creek Generating Station and Salem Nuclear Generating Station, Unit Nos. 1 and 2, Salem County, New Jersey

Date amendment request: December 9, 2014, as supplemented by letter dated April 9, 2015.

Brief description of amendments: The amendments revised the PSEG Nuclear LLC (PSEG) Environmental Protection Plans (non-radiological) (EPPs), contained in Appendix B to the renewed facility operating licenses for Hope Creek Generating Station and Salem Nuclear Generating Station, Units 1 and 2, to clarify that PSEG must adhere to the currently applicable biological opinion issued by the National Marine Fisheries Service. The amendments also simplify the Aquatic Monitoring section of the EPPs, modify reporting requirements related to New Jersey Pollutant Discharge Elimination System permits, modify the criteria for reporting Unusual or Important Environmental Events, and remove the requirement for PSEG to submit an Annual Environmental Operating Report.

Date of issuance: June 17, 2015.

Effective date: As of the date of issuance and shall be implemented within 60 days.

Amendment Nos.: 198, 308, 290. A publicly-available version is in ADAMS under Accession No. ML15141A271; documents related to these amendments are listed in the Safety Evaluation enclosed with the amendments.

Renewed Facility Operating License Nos. NPF-57, DPR-70 and DPR-75: The amendments revised the Renewed Facility Operating Licenses and EPPs.

Date of initial notice in Federal Register: April 14, 2015 (80 FR 20024). The supplemental letter dated April 9, 2015, provided additional information that clarified the application, did not expand the scope of the application as originally noticed, and did not change the staff's original proposed no significant hazards consideration determination as published in the Federal Register.

The Commission's related evaluation of the amendments is contained in a Safety Evaluation dated June 17, 2015.

No significant hazards consideration comments received: Yes.

The Commission's related evaluation of the public comments is contained in the safety evaluation dated June 17, 2015.

Southern California Edison Company, et al., Docket Nos. 50-206, 50-361, 50-362, and 72-041, San Onofre Nuclear Generating Station (SONGS), Units 1, 2, and 3, and the Independent Spent Fuel Storage Installation, San Diego County, California

Date of amendment request: March 31, 2014, as supplemented by letters dated October 21, 2014, March 17, 2015, and April 29, 2015.

Brief description of amendment: The amendments revised the SONGS emergency plan to reflect the low likelihood of any credible accident at the facility in its permanently shutdown and defueled condition that could result in radiological releases requiring offsite protective measures and how, in the unlikely event of certain severe, beyond-design-basis accidents, sufficient time would be available to initiate appropriate mitigating actions, and if needed, for offsite authorities to implement protective actions to protect the public health and safety.

Date of issuance: June 5, 2015.

Effective date: As of the date of issuance and shall be implemented within 60 days of issuance.

Amendment Nos.: Unit 1—167; Unit 2—229; Unit 3—222. A publicly-available version is in ADAMS under Accession No. ML15126A461; documents related to these amendments are listed in the Safety Evaluation enclosed with the amendments.

Facility Operating License Nos. DPR-13, NPF-10, and NPF-15: The amendments revised the emergency plan.

Date of initial notice in Federal Register: December 23, 2014 (79 FR 77049). The supplemental letters dated March 17, 2015, and April 29, 2015, provided additional information that clarified the application, did not expand the scope of the application as originally noticed, and did not change the staff's original proposed no significant hazards consideration determination as published in the Federal Register.

The Commission's related evaluation of the amendments is contained in a Safety Evaluation dated June 5, 2015.

No significant hazards consideration comments received: No.

Tennessee Valley Authority, Docket No. 50-260, Browns Ferry Nuclear Plant, Unit 2, Limestone County, Alabama

Date of amendment request: June 19, 2014, as supplemented by letter dated December 2, 2014.

Brief description of amendment: The amendment revised the Technical Specification (TS) 3.4.9, “RCS [Reactor Coolant System] Pressure and Temperature (P/T) Limits,” and Figures 3.4.9-1 through 3.4.9-2. The P/T limits are based on proprietary topical report NEDC-33178P-A, Revision 1, “GE [General Electric] Hitachi Nuclear Energy Methodology for Development of Reactor Pressure Vessel Pressure-Temperature Curves.” NEDO-33178-A, Revision 1, is the non-proprietary version of the NRC-approved topical report.

Date of issuance: June 2, 2015.

Effective date: As of the date of issuance and shall be implemented within 60 days of issuance.

Amendment No.: 314. A publicly available version is in ADAMS under Accession No. ML15065A049; documents related to this amendment are listed in the Safety Evaluation enclosed with the amendment.

Renewed Facility Operating License No. DPR-52: The amendment revised the Facility Operating License and TSs.

Date of initial notice in Federal Register: February 3, 2015 (80 FR 5819).

The Commission's related evaluation of the amendment is contained in a Safety Evaluation dated June 2, 2015.

No significant hazards consideration comments received: No.

Virginia Electric and Power Company, Docket Nos. 50-338 and 50-339, North Anna Power Station, Units 1 and 2, Louisa County, Virginia

Date of application for amendment: June 30, 2014, as supplemented by letter dated July 28, 2015.

Brief description of amendment: The license amendments approved the changes to the Technical Specification (TS) 5.5.15, “Containment Leakage Rate Testing Program,” by replacing the reference to Regulatory Guide (RG) 1.163 with a reference to Nuclear Energy Institute (NEI) topical report NEI 94-01, Revision 3-A, as the implementation document used to develop the North Anna performance-based leakage testing program in accordance with Option B of 10 CFR 50, Appendix J.

Date of issuance: June 16, 2015.

Effective date: As of the date of issuance and shall be implemented within 60 days from the date of issuance.

Amendment Nos.: 274 and 257. A publicly-available version is in ADAMS under Accession No. ML15133A381; documents related to this amendment are listed in the Safety Evaluation enclosed with the amendment.

Renewed Facility Operating License Nos. NPF-4 and NPF-7: The amendments revised the Facility Operating Licenses and Technical Specifications.

Date of initial notice in Federal Register: September 2, 2014 (79 FR 52070).

The supplement dated January 28, 2015, provided additional information that clarified the application, did not expand the scope of the application as originally noticed, and did not change the staff's original proposed no significant hazards consideration determination.

The Commission's related evaluation of the amendments is contained in a Safety Evaluation dated June 16, 2015.

No significant hazards consideration comments received: No.

Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR chapter I, which are set forth in the license amendment.

Because of exigent or emergency circumstances associated with the date the amendment was needed, there was not time for the Commission to publish, for public comment before issuance, its usual notice of consideration of issuance of amendment, proposed no significant hazards consideration determination, and opportunity for a hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items can be accessed as described in the “Obtaining Information and Submitting Comments” section of this document.

A. Opportunity To Request a Hearing and Petition for Leave To Intervene

The Commission is also offering an opportunity for a hearing with respect to the issuance of the amendment. Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852, and electronically on the Internet at the NRC's Web site, http://www.nrc.gov/reading-rm/doc-collections/cfr/. If there are problems in accessing the document, contact the PDR's Reference staff at 1-800-397-4209, 301-415-4737, or by email to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) the name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner to relief. A requestor/petitioner who fails to satisfy these requirements with respect to at least one contention will not be permitted to participate as a party.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least ten 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Energy Northwest, Docket No. 50-397, Columbia Generating Station, Benton County, Washington

Date of application for amendment: May 15, 2015, as supplemented by letter dated May 19, 2015.

Brief description of amendment: The amendment extended the implementation period for Amendment No. 232, License Amendment Request for Changing Technical Specification Table 3.3.1.1-1 Function 7, “Scram Discharge Volume Water Level—High,” which was issued on March 27, 2015 (ADAMS Accession No. ML15063A010). Amendment No. 232 was effective as of the date of issuance (i.e., on March 27, 2015), and was required to be implemented prior to restarting from refueling outage R-22, scheduled for spring 2015. Amendment No. 235 extends the implementation period for Amendment No. 232 to prior to restarting from refueling outage R-23, scheduled for spring 2017.

Date of issuance: June 11, 2015.

Effective date: As of its date of issuance and shall be implemented prior to restarting from refueling outage R-23, scheduled for spring 2017.

Amendment No.: 235. A publicly-available version is in ADAMS under Accession No. ML15154A800; documents related to this amendment are listed in the Safety Evaluation enclosed with the amendment.

Renewed Facility Operating License No. NPF-21: Amendment revised the Renewed Facility Operating License to extend the implementation date of Amendment No. 232, issued on March 27, 2015, to prior to restarting from refueling outage R-23, scheduled for spring 2017.

Public comments requested as to proposed no significant hazards consideration (NSHC): Yes. Public notice of the proposed amendment was published in the Tri-City Herald, located in in Kennewick, Washington, from June 2 through June 4, 2015. The notice provided an opportunity to submit comments on the Commission's proposed NSHC determination. No comments were received.

The Commission's related evaluation of the amendment, finding of exigent circumstances, state consultation, public comments, and final NSHC determination are contained in a Safety Evaluation dated June 11, 2015.

Attorney for licensee: William A. Horin, Esq., Winston & Strawn, 1700 K Street, NW., Washington, DC 20006-3817.

NRC Branch Chief: Michael T. Markley.

Tennessee Valley Authority, Docket No. 50-390, Watts Bar Nuclear Plant, Unit 1 (WBN-1), Rhea County, Tennessee

Date of amendment request: May 29, 2015, as supplemented by letter dated June 5, 2015.

Description of amendment request: The amendment provided a one-time change to Technical Specification Table 3.3.4-1, Function 4a, “Reactor Coolant System (RCS) Hot Leg Temperature Indication,” to permit the temperature indication for RCS Loop 4 to be inoperable for the remainder of WBN-1 Operating Cycle 13.

Date of issuance: June 12, 2015.

Effective date: June 12, 2015.

Amendment No.: 100. A publicly-available version is in ADAMS under Accession No. ML15160A407; documents related to this amendment are listed in the Safety Evaluation enclosed with the amendment.

Facility Operating License No. (NPF-90): The amendment revised the Technical Specifications.

Public comments requested as to proposed no significant hazards consideration (NSHC): Yes. (The Advocate & Democrat and The Herald-News on June 7 and June 10, 2015 as well as The Daily Post-Athenian on June 5 and June 8, 2015.) The notice provided an opportunity to submit comments on the Commission's proposed NSHC determination. No comments were received.

The supplemental letter dated June 5, 2015, provided additional information that clarified the application, did not expand the scope of the application as originally noticed, and did not change the staff's original proposed no significant hazards consideration determination as published in The Advocate & Democrat and The Herald-News on June 7, and June 10, 2015, as well as The Daily Post-Athenian, on June 5, and June 8, 2015.

The Commission's related evaluation of the amendment, finding of exigent circumstances, state consultation, and NSHC determination are contained in a safety evaluation dated June 12, 2015.

Attorney for licensee: General Counsel, Tennessee Valley Authority, 400 West Summit Hill Drive, ET 11A, Knoxville, TN 37902.

NRC Branch Chief: Jessie F. Quichocho.

Dated at Rockville, Maryland, this 29th day of June 2015.
For the Nuclear Regulatory Commission.
George A. Wilson,
Deputy Director, Division of Operating Reactor Licensing, Office of Nuclear Reactor Regulation.

[FR Doc. 2015-16539 Filed 7-6-15; 8:45 am]

BILLING CODE 7590-01-P